DEPARTMENT OF THE INTERIOR

Bureau of Land Management

[LLES956000-L14400000-BJ0000]

Eastern States: Filing of Plat of Survey

AGENCY: Bureau of Land Management, Interior.

ACTION: Notice of filing of plat of survey; Arkansas.

SUMMARY: The Bureau of Land Management (BLM) will file the plat of survey of the lands described below in the BLM-Eastern States office in Washington, DC, 30 calendar days from the date of publication in the Federal Register.

FOR FURTHER INFORMATION CONTACT: Bureau of Land Management-Eastern States, 20 M St. SE., Suite 950, Washington, DC 20003 Attn: Cadastral Survey.

SUPPLEMENTARY INFORMATION: The survey was requested by the U.S. Forest Service. The lands surveyed are:

Fifth Principal Meridian, Arkansas

T. 11 N., R. 22 W.

The plat of survey represents the dependent resurvey of a portion of the south boundary of Township 12 North, Range 22 West; the east boundary of Township 11 North, Range 23 West; the south boundary (Standard Parallel North), the east boundary, a portion of the subdivisional lines, the survey of the subdivision of certain sections, the survey of certain U.S. Forest Service tracts, and exceptions to certain U.S. Forest Service tracts of Township 11 North, Range 22 West, of the Fifth Principal Meridian, in the State of Arkansas, and was accepted April 30, 2015.

We will place a copy of the plat described in the open files. It will be available to the public as a matter of information.

If BLM receives a protest against the survey, as shown on the plat, prior to the date of the official filing, we will stay the filing pending our consideration of the protest.

We will not officially file the plat until the day after we have accepted or dismissed all protests and they have become final, including decisions on appeals.

Dated: May 29, 2015.
Dominica Van Koten,
Chief Cadastral Surveyor.

[FR Doc. 2015-13709 Filed 6-3-15; 8:45 am]

BILLING CODE 4310-GJ-P